FEDERAL COMMUNICATIONS COMMISSION

Radio Broadcasting Services; AM or FM Proposals To Change the Community of License

AGENCY: Federal Communications Commission.

ACTION: Notice.

SUMMARY: The following applicants filed AM or FM proposals to change the community of license: AMERICAN FAMILY ASSOCIATION, Station WSQH, Facility ID 91176, BMPED-20100205ABG, From MERIDIAN, MS, To DECATUR, MS; BRAHMIN BROADCASTING CORPORATION, Station KPAD, Facility ID 166006, BPH-20100127AAK, From WHEATLAND, WY, To RAWLINS, WY; BRAHMIN BROADCASTING CORPORATION, Station KMJY, Facility ID 164284, BPH-20100127ABI, From CHUGWATER, WY, To MEDICINE BOW, WY; JLF COMMUNICATIONS, LLP, Station KYRO, Facility ID 59251, BP-20100205ABZ, From POTOSI, MO, To TROY, MO; MORNING STAR MEDIA, LLC, Station WZKR, Facility ID 76435, BPH-20100205ABA, From DECATUR, MS, To COLLINSVILLE, MS; TRUTH BROADCASTING CORPORATION, Station KFFF-FM, Facility ID 6417, BPH-20100126AGR, From BOONE, IA, To JOHNSTON, IA; WAYNE RADIO WORKS LLC, Station KCTY, Facility ID 35659, BPH-20100204AAQ, From WAYNE, NE, To EMERSON, NE.

DATES: Comments may be filed through May 24, 2010.

ADDRESSES: Federal Communications Commission, 445 12th Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. 2010-6328 Filed 3-22-10; 8:45 am]

BILLING CODE 6712-01-P